DEPARTMENT OF ENERGY

Federal Energy Regulatory Commission

[Docket No. ER01-3141-003, et al.]

American Electric Power Service Corporation, et al.; Electric Rate and Corporate Regulation Filings

January 14, 2002.

Take notice that the following filings have been made with the Commission. Any comments should be submitted in accordance with Standard Paragraph E at the end of this notice.

1. American Electric Power Service Corporation

[Docket No. ER01-3141-003]

Take notice that on January 8, 2002, the American Electric Power Service Corporation (AEPSC), tendered for filing First Revised Firm Point-to-Point Transmission (PTP) Service Agreements for Exelon Generation Company, LLC for long-term PTP reservations. Both of these agreements are pursuant to the AEP Companies' Open Access Transmission Service Tariff (OATT) that has been designated as the Operating Companies of the American Electric Power System FERC Electric Tariff Second Revised Volume No. 6.

AEPSC requests an effective date of September 1, 2001.

A copy of the filing was served upon the Parties and the state utility regulatory commissions of Arkansas, Indiana, Kentucky, Louisiana, Michigan, Ohio, Oklahoma, Tennessee, Texas, Virginia and West Virginia.

Comment Date: January 29, 2002.

2. Llano Estacado Wind, LP

[Docket No. ER02-73-002]

Take notice that on January 8, 2002, Llano Estacado Wind, LP (Llana Estacado Wind) tendered for filing with the Federal Energy Regulatory Commission (Commission) a Notice of Change in Status informing the Commission of a change in status as a result of a change in its upstream corporate ownership.

Comment Date: January 29, 2002.

3. Virginia Electric and Power Company

[Docket No. ER02-92-002]

Take notice that on January 10, 2002, Virginia Electric and Power Company, doing business as Dominion Virginia Power, tendered for filing an executed Generator Interconnection and Operating Agreement (Interconnection Agreement) with CPV Cunningham Creek LLC. (CPV) that complies with the Commission's December 11, 2001 letter order in Docket No. ER02-92-000.

Dominion Virginia Power respectfully requests that the Commission accept this filing to make the Interconnection Agreement effective as of December 11, 2001, the same date the Commission made the Interconnection Agreement effective in its December 11, 2001 letter order.

Copies of the filing were served upon CPV and the Virginia State Corporation Commission.

Comment Date: January 31, 2002.

4. Rainy River Energy Corporation—Taconite Harbor

[Docket No. ER02-124-001]

Take notice that on January 9, 2002, Rainy River Energy Corporation—Taconite Harbor (RRTH) filed an amendment to its October 18, 2001, Market Based Rate Application in compliance with a December 13, 2001, Letter Order requiring the submission of a supply margin assessment market power study and the addition of certain language conditioning the market-based rate authority contained in RRTH's proposed rate schedule.

RRTH requests that the rate schedule become effective January 28, 2002.

Comment Date: January 30, 2002.

5. Bluegrass Generation Company, L.L.C.

[Docket No. ER02-506-001]

Take notice that on January 9, 2002, Bluegrass Generation Company, L.L.C. tendered for filing pursuant to Rule 205, 18 CFR 385.205, a supplement to its petition for waivers and blanket approvals under various regulations of the Commission and for an order accepting its FERC Electric Tariff No. 1, originally submitted on December 7, 2001.

Comment Date: January 30, 2002.

6. CP&L Holdings, Inc., et al.

[Docket No. ER02-745-000]

Take notice that on January 9, 2002, Carolina Power & Light Company (CP&L) tendered for filing with the Federal Energy Regulatory Commission (Commission) a revised service agreement with Cinergy Services, Inc. under CP&L's FERC Electric Tariff, Fourth Revised Volume No. 4 in compliance with the Commission's July 12, 2000 order issued in Docket Nos. EC00-55-000 and ER00-1520-000, et al.

CP&L respectfully requests that the Commission allow the revised service agreement to become effective as of December 15, 2001.

Copies of the filing were served upon the Commission's official service list in the above-mentioned dockets, the North Carolina Utilities Commission, the South Carolina Public Service Commission, and the Florida Public Service Commission.

Comment Date: January 30, 2002.

7. PacifiCorp

[Docket No. ER02-746-000]

Take notice that on January 10, 2002, PacifiCorp tendered for filing with the Federal Energy Regulatory Commission (Commission) a Notice of Cancellation of Rate Schedule F.E.R.C. No. 419

Comment Date: January 31, 2002.

8. PacifiCorp

[Docket No. ER02-747-000]

Take notice that on January 10, 2002, PacifiCorp tendered for filing with the Federal Energy Regulatory Commission (Commission), a Notice of Cancellation of Rate Schedule F.E.R.C. No. 5 under PacifiCorp's FERC Electric Tariff, Volume No. 12 for the Long Term Power Sales Agreement between Public Utility District No. 1 of Okanogan County and PacifiCorp.

Comment Date: January 31, 2002.

9. PacifiCorp

[Docket No. ER02-748-000]

Take notice that on January 10, 2002, PacifiCorp tendered for filing with the Federal Energy Regulatory Commission (Commission) a Notice of Cancellation of Rate Schedule F.E.R.C. No. 429 for the Long Term Power Sales Agreement between Pacific Northwest Generation Company and PacifiCorp.

Comment Date: January 31, 2002.

10. PPL Electric Utilities Corporation

[Docket No. ER02-749-000]

Take notice that on January 10, 2002, PPL Electric Utilities Corporation filed a notice of termination of the Power Supply Agreement between it and Allegheny Electric Cooperative Inc. for service to Tri-County Electric Cooperative, Inc. designated as Service Agreement No. 120 under FERC Electric Tariff, First Revised Volume No. 5. PPL Electric also filed a notice of termination of the Power Supply Agreement between it and Allegheny Electric Cooperative, Inc. for service to Sullivan County Rural Electric Cooperative Inc. designated as Service Agreement No. 121 under FERC Electric Tariff, First Revised Volume No. 5.

PPL Electric Utilities Corporation requests a February 1, 2002 termination date for both power supply agreements.

PPL Electric Utilities Corporation has served a copy of the notice of termination on Allegheny Electric Cooperative, Inc.

Comment Date: January 31, 2002.

11. PPL Electric Utilities Corporation

[Docket No. ER02-750-000]

Take notice that on January 10, 2002, PPL Electric Utilities Corporation filed a notice of termination of the Power Supply Agreement between it and Citizens' Electric Company of Lewisburg designated as Service Agreement No. 76 under FERC Electric Tariff, First Revised Volume No. 5.

PPL Electric Utilities Corporation requests a January 31, 2002 termination date for the Agreement.

PPL Electric Utilities Corporation has served a copy of the notice of termination on Citizens' Electric Company of Lewisburg.

Comment Date: January 31, 2002.

12. Mid-Continent Area Power Pool

[Docket No. ER02-751-000]

Take notice that on January 10, 2002, the Mid-Continent Area Power Pool (MAPP), on behalf of its public utility members, tendered for filing Firm and Non-Firm Point-To-Point service agreements under MAPP Schedule F with Entergy-Koch Trading, LP to reflect a corporate name change from Axia Energy, LP to Entergy-Koch Trading, LP.

Comment Date: January 31, 2002.

13. P Chrisman Iribe, Thomas B. King, John R. Cooper, John C. Barpoulis, David N. Bassett, Mark V. Carney, F. Joseph Feyder, J.W. Maitland Horner, William E. Quinn, Sanford L. Hartman, Nancy A. Manning, J. Tracy Mey, Dena Chapin Nolte, Thomas E. Legro, Morris Meltzer, Suzanne Rich, Kent L. Ficket

[Docket Nos. ID-3131-011, ID-3616-001, ID-3132-010, ID-3447-002, ID-3134-008, ID-3429-005, ID-3448-004, ID-3276-004, ID-3449-004, ID-3275-005, ID-3425-005, ID-3619-001, ID-3618-001, ID-3689-000, ID-3690-000, ID-3278-003, and ID-3691-000]

Take notice that on December 27, 2001, the above named individuals filed with the Federal Energy Regulatory Commission (Commission) an application for authority to hold interlocking positions in Mountain View Power, LLC; Mountain View Power II, LLC; Attala Generating Company, LLC; and Plains End, LLC all with their principal place of business at 7500 Old Georgetown Road, Bethesda, Maryland 20814.

Comment Date: February 7, 2002.

14. American Transmission Company LLC

[Docket No. ER02-752-000]

Take notice that on January 10, 2002, American Transmission Company LLC (ATCLLC) tendered for filing Firm and Non-Firm Point-to-Point Service Agreements for Midwest Power LLC.

ATCLLC requests an effective date of January 14, 2002.

Comment Date: January 31, 2002.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1429 Filed 1-17-02; 8:45 am]

BILLING CODE 6717-01-P